DEPARTMENT OF AGRICULTURE

Forest Service

Kisatchie Resource Advisory Committee

AGENCY: Forest Service, USDA.

ACTION: Notice of meeting.

SUMMARY: The Kisatchie Resource Advisory Committee will meet in Natchitoches, Louisiana. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 20, 2012, 6 p.m.

ADDRESSES: The meeting will be held at the National Center for Preservation, Technology and Training on the Northwestern State University campus, 645 University Parkway, Natchitoches, Louisiana.

Written comments may be submitted as described under Supplementary Information. All comments, including names and addresses when provided, are placed in the record and are available for public inspection and copying. The public may inspect comments received at the Forest Supervisor's Office, 2400 Shreveport Hwy, Pineville, Louisiana. Please call ahead to 318-473-7025 to facilitate entry into the building to view comments.

FOR FURTHER INFORMATION CONTACT: Holly Morgan, RAC Coordinator, USDA, 2500 Shreveport Hwy, Pineville, Louisiana, 71360, 318-473-7194.

Individuals who use telecommunication devices for the deaf (TDD) may call the Federal Information Relay Service (FIRS) at 1-800-877-8339 between 8 a.m. and 8 p.m., Eastern Standard Time, Monday through Friday.

SUPPLEMENTARY INFORMATION: The following business will be conducted: Overview of changes, presentation of projects, voting on proposed projects, public comment. A full Agenda, meeting information, and proposed projects may be viewed at the Kisatchie RAC Web site: https://fsplaces.fs.fed.us/fsfiles/unit/wo/secure_rural_schools.nsf/RAC/AA30E6FF5FEE96518825767100516D0F?OpenDocument. Anyone who would like to bring related matters to the attention of the committee may file written statements with the committee staff before or after the meeting. The agenda will include time for people to make oral statements of three minutes or less. Written comments must be sent to Kisatchie RAC, 2500 Shreveport Hwy, Pineville, LA 71360 Attn: Holly Morgan, or by email to hmormgan@fs.fed.us, or via facsimile to 318-473-7117. A summary of the meeting will be posted at https://fsplaces.fs.fed.us/fsfiles/unit/wo/secure_rural_schools.nsf/RAC/AA30E6FF5FEE96518825767100516D0F?OpenDocument within 21 days of the meeting.

Meeting Accommodations: If you are a person requiring reasonable accommodation, please make requests in advance for sign language interpreting, assistive listening devices or other reasonable accommodation for access to the facility or proceedings by contacting the person listed under FOR FURTHER INFORMATION CONTACT. All reasonable accommodation requests are managed on a case by case basis.

Dated: August 9, 2012.
Michael L. Balboni,
Forest Supervisor.

[FR Doc. 2012-20111 Filed 8-15-12; 8:45 am]

BILLING CODE 3410-11-P